DEPARTMENT OF COMMERCE

National Oceanic and Atmospheric Administration

[I.D. 030107C]

Atlantic Highly Migratory Species; Exempted Fishing Permits; Request for Public Comments

AGENCY: National Marine Fisheries Service (NMFS), National Oceanic and Atmospheric Administration (NOAA), Commerce.

ACTION: Notice; request for an exempted fishing permit; request for public comment.

SUMMARY: This notice re-opens the comment period on an March 13, 2007, Federal Register notice that was extended on April 11, 2007, regarding a request for an exempted fishing permit (EFP) to collect fisheries data in the East Florida Coast and Charleston Bump closed areas. The extended comment period closed on April 25, 2007. NMFS is reopening the comment period due to requests from the South Atlantic Fishery Management Council (SAFMC) and others. The SAFMC has requested re-opening the comment period to include their next meeting on June 11-15, 2007. The Agency is re-opening the comment period to allow for additional comments to be received from the SAFMC and the public prior to making a determination on the application.

DATES: The deadline for written comments on the April 11, 2007 (72 FR 18208), notice has been re-opened until 5 p.m. on June 20, 2007.

ADDRESSES: You may submit comments by any of the following methods:

• Email: SF1.030107C@noaa.gov. Include in the subject line the following identifier: “I.D. 030107C”.

• Mail: Michael Clark, Highly Migratory Species Management Division (F/SF1), NMFS, 1315 East-West Highway, Silver Spring, MD 20910. Please mark the outside of the envelope “Comments on EFP Application.”

• Fax: (301)713-1917

FOR FURTHER INFORMATION CONTACT: Michael Clark, by phone: (301) 713-2347; fax: (301)713-1917.

SUPPLEMENTARY INFORMATION: EFPs are requested and issued under the authority of the Atlantic Tunas Convention Act (ATCA) (16 U.S.C. 971 et seq.) and the Magnuson-Stevens Fishery Conservation and Management Act (1601 U.S.C. 1801 et seq.), which regulate fishing activities of tunas, swordfish, sharks, and billfish. Regulations at 50 CFR 635.32 govern scientific research activity, exempted fishing, and exempted educational activity with respect to Atlantic Highly Migratory Species (HMS).

On March 13, 2007 (72 FR 11327), NMFS published a notice announcing receipt of an application to conduct fishing activities from Pelagic Longline (PLL) vessels in portions of the East Florida Coast and Charleston Bump closed areas. The comment period was extended on April 11, 2007 (72 FR 18208). The objectives of this EFP request have not changed. The applicant states that these data would provide information on circle hook performance, target and bycatch species composition, and allow comparative analysis with historical pelagic longline logbook and observer program data. The applicant states that the goals of these fishing activities are to determine if implementation of new pelagic longline fishing practices justify the resumption of PLL fishing in the selected areas and to catch more of the United States swordfish quota. The proposed activities would occur in Federal waters of the Atlantic Ocean off Florida and South Carolina from the date of issuance through April 2008.

NMFS is re-opening the comment period until June 20, 2007, because of requests made by the South Atlantic Fishery Management and others. This will afford the Council an opportunity to consider the EFP request during their June 2007 meeting and will also provide additional time for the public to consider the application prior to the Agency making a determination.

Authority: 16 U.S.C. 971 et seq. and 16 U.S.C. 1801 et seq.

Dated: May 1, 2007.
James P. Burgess,
Acting Director, Office of Sustainable Fisheries, National Marine Fisheries Service.

[FR Doc. E7-8700 Filed 5-4-07; 8:45 am]

BILLING CODE 3510-22-S